DEPARTMENT OF ENERGY

Federal Energy Regulatory Commission

[P-349-158; P-2407-126]

Alabama Power Company; Notice of Application for Temporary Amendment of License and Soliciting Comments, Motions To Intervene, and Protests

December 30, 2008.

Take notice that the following hydroelectric application has been filed with the Commission and is available for public inspection:

a. Type of Application: Request for drought-based temporary variance of the Martin Project rule curve and minimum flow releases at the Yates and Thurlow Project.

b. Project Nos.: 349-158 and 2407-126.

c. Date Filed: December 29, 2008.

d. Applicant: Alabama Power Company.

e. Name of Projects: Martin Hydroelectric Project (P-349) and Yates and Thurlow Hydroelectric Project (P-2407).

f. Location: The Martin Dam Project is located on the Tallapoosa River in the counties of Coosa, Elmore and Tallapoosa, Alabama. The Yates and Thurlow Project is located on the Tallapoosa River in the counties of Tallapoosa and Elmore Counties, Alabama.

g. Filed Pursuant to: Federal Power Act, 16 U.S.C. 791a-825r.

h. Applicant Contact: Mr. Jim Crew, Alabama Power Company, P.O. Box 2641, Birmingham, Alabama 35291, Tel: (205) 257-4265.

i. FERC Contact: Ms. Rachel Price, (202) 502-8907; e-mail: rachel.price@ferc.gov.

j. Deadline for filing comments, motions to intervene and protests: January 30, 2009.

Please include the project numbers (P-349-158 and P-2407-126) on any comments or motions filed. All documents should be filed with: Kimberly D. Bose, Secretary, Federal Energy Regulatory Commission, 888 First Street NE., Washington, DC 20426. Comments, protests, and interventions may be filed electronically via the Internet, see 18 CFR 385.2001 (a)(1)(iii) and the instructions on the Commission's Web site under the “e-filing” link. The Commission strongly encourages electronic filings. In lieu of electronic filing, an original and eight copies of all documents may be mailed to the Secretary at the address above.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Alabama Power is requesting a drought-based temporary variance to the Martin Project rule curve. The rule curve variance would be in effect from the date of Commission approval to May 1, 2009, and would include: (1) Maintaining a winter pool elevation 3 feet higher than normal, at elevation 483 feet instead of elevation 480 feet; (2) maintaining the winter pool elevation earlier than normal, upon Commission approval; (3) initiating the filling process earlier than normal, beginning January 15th instead of February 17th; and (4) reaching and maintaining summer pool elevation earlier than normal, beginning April 1st rather than April 29th. In association with the Martin rule curve variance, the minimum flows from the Thurlow reservoir (P-2407) would be temporarily modified as follows until May 1, 2009: (1) Discharge would be no less than 350 cubic feet per second (cfs) until the Martin Reservoir elevation reaches the existing rule curve; (2) when the reservoir elevation is at or above the existing rule curve but below the temporary rule curve, Alabama Power would discharge the greater of 350 cfs or inflow at the upstream Heflin gage; and (3) when Martin Reservoir elevation is at or above the temporary rule curve, Alabama Power would discharge no less than 1,200 cfs from Thurlow.

l. Location of the Application: The filing is available for inspection and reproduction at the Commission's Public Reference Room, located at 888 First Street, NE., Room 2A, Washington, DC 20426 or by calling (202) 502-8371. This filing may also be viewed on the Commission's Web site at http://ferc.gov using the “eLibrary” link. Enter the docket number excluding the last three digits in the docket number field to access the document. You may also register online at http://www.ferc.gov/docsfiling/esubscription.asp to be notified vial e-mail or new filings and issuances related to this or other pending projects. For assistance, call 1-866-208-3676 or e-mail ferconlinesupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “e-Filing” link.

Kimberly D. Bose,
Secretary.

[FR Doc. E8-31436 Filed 1-6-09; 8:45 am]

BILLING CODE 6717-01-P